ENVIRONMENTAL PROTECTION AGENCY

[See the Item Specific Docket Numbers Provided in the Text; FRL-10008-53-OECA]

Proposed Information Collection Requests; Comment Requests

AGENCY: Environmental Protection Agency (EPA).

ACTION: Notice.

SUMMARY: The Environmental Protection Agency is planning to submit the below listed information collection requests (ICR) to the Office of Management and Budget (OMB) for review and approval in accordance with the Paperwork Reduction Act (PRA). Before doing so, EPA is soliciting public comments on specific aspects of the proposed information collections as described below. These are proposed extensions of 24 currently approved ICRs. An Agency may not conduct or sponsor and a person is not required to respond to a collection of information unless it displays a currently valid OMB control number.

DATES: Comments must be submitted on or before July 13, 2020.

ADDRESSES: Submit your comments, referencing the Docket ID numbers provided for each item in the text below, online using www.regulations.gov (our preferred method), by email to docket.oeca@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, (Mailcode 2227A), Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, EPA will issue another Federal Register document to announce the submission of the ICR to OMB and the opportunity to submit additional comments to OMB.

General abstract: For all the listed ICRs in this document, owners and operators of affected facilities are required to comply with reporting and record keeping requirements for the general provisions of 40 CFR part 60, subpart A, 40 CFR part 63, subpart A, 40 CFR part 264, subpart A, or 40 CFR part 265, subpart A, as well as the applicable specific standards. This includes submitting initial notifications, performance tests and periodic reports and results, and maintaining records of the occurrence and duration of any startup, shutdown, or malfunction in the operation of an affected facility, or any period during which the monitoring system is inoperative. These reports are used by EPA to determine compliance with the standards.

(1) Docket ID Number: EPA-HQ-OECA-2013-0346; NESHAP for Acrylic/Modacrylic Fibers Production, Carbon Black Production, Chemical Manufacturing: Chromium Compounds, Flexible Polyurethane Foam Production/Fabrication, Lead Acid Battery Manufacturing, and Wood Preserving (40 CFR part 63, subparts LLLLLL, MMMMMM, NNNNNN, OOOOOO, PPPPPP, and QQQQQQ) (Renewal); EPA ICR Number 2256.06; OMB Control Number 2060-0598; Expiration date December 31, 2020.

Respondents: Acrylic or modacrylic fibers production plants; carbon black production plants, facilities that use chromite ore as the basic feedstock to manufacture chromium compounds, primarily sodium dichromate, chromic acid, and chromic oxide; flexible polyurethane foam manufacturing facilities, lead acid battery manufacturing facilities, and wood preserving facilities located at area sources of hazardous air pollutants (HAP).

Respondent's obligation to respond: Mandatory (40 CFR part 63, subparts LLLLLL, MMMMMM, NNNNNN, OOOOOO, PPPPPP, and QQQQQQ).

Estimated number of respondents: 956.

Frequency of response: Initially, occasionally, and semiannually.

Estimated annual burden: 6,342 hours.

Estimated annual cost: $654,000, includes $0 annualized capital or operation and maintenance (O&M) costs.

Changes in estimates: There is no change in burden from the previous ICR.

(2) Docket ID Number: EPA-HQ-OECA-2020-0212; NESHAP for Manufacturing of Nutritional Yeast (40 CFR part 63, subpart CCCC) (Renewal); EPA ICR Number 2568.03; OMB Control Number 2060-0719; Expiration date December 31, 2020.

Respondents: Nutritional yeast production facilities.

Respondent's obligation to respond: Mandatory (40 CFR part 60, subpart CCCC).

Estimated number of respondents: 4.

Frequency of response: Initially and semiannually.

Estimated annual burden: 1,371 hours.

Estimated annual cost: $807,914, includes $695,130 annualized capital or O&M costs.

Changes in estimates: There is no change in burden from the previous ICR.

(3) Docket ID Number: EPA-HQ-OECA-2013-0316; NSPS for Onshore Natural Gas Processing Plants (40 CFR part 60, subparts KKK and LLL) (Renewal); EPA ICR Number 1086.12; OMB Control Number 2060-0120; Expiration date January 31, 2021.

Respondents: Nutritional yeast production facilities.

Respondent's obligation to respond: Mandatory (40 CFR part 60, subparts KKK and LLL).

Estimated number of respondents: 484.

Frequency of response: Initially, semiannually, and occasionally.

Estimated annual burden: 101,800 hours.

Estimated annual cost: $10,780,000, includes $68,400 annualized capital or O&M costs.

Changes in estimates: There is a projected decrease in burden due to anticipated modifications at existing sources that would no longer meet the requirements of subparts KKKK or LLLL, but would become subject to 40 CFR part 60, subpart OOOO.

(4) Docket ID Number: EPA-HQ-OECA-2013-0333; Air Emission Standards for Tanks, Surface Impoundments and Containers (40 CFR part 264, subpart CC and 40 CFR part 265, subpart CC) (Renewal); EPA ICR Number 1593.11; OMB Control Number 2060-0318; Expiration date January 31, 2021.

Respondents: Treatment, storage, and disposal facilities (TSDFs) and large quantity generator (LQF) facilities.

Respondent's obligation to respond: Mandatory (40 CFR part 264, subpart CC and 40 CFR part 265, subpart CC).

Estimated number of respondents: 6,209.

Frequency of response: Initially, semiannually, and occasionally.

Estimated annual burden: 712,000 hours.

Estimated annual cost: $85,900,000, includes $12,400,000 annualized capital or O&M costs.

Changes in estimates: There is no change in burden from the previous ICR.

(5) Docket ID Number: EPA-HQ-OECA-2020-0203; NSPS Review for Municipal Solid Waste Landfills (40 CFR part 60, subpart XXX) (Renewal); EPA ICR Number 2498.04; OMB Control Number 2060-0697; Expiration date January 31, 2021.

Respondents: Municipal solid waste landfills that commenced construction, modification, or reconstruction on or after May 30, 1991.

Respondent's obligation to respond: Mandatory (40 CFR part 60, subpart XXX).

Estimated number of respondents: 133.

Frequency of response: Initially, occasionally, and semiannually.

Estimated annual burden: 91,087 hours.

Estimated annual cost: $6,130,000, includes $ 597,000 annualized capital or O&M costs.

Changes in estimates: There is no change in burden from the previous ICR.

(6) Docket ID Number: EPA-HQ-OECA-2013-0019; NSPS for Electric Utility Steam Generating Units (40 CFR part 60, subpart Da) (Renewal); EPA ICR Number 1053.13; OMB Control Number 2060-0023; Expiration date February 28, 2021.

Respondents: Electric utility steam generating facilities.

Respondent's obligation to respond: Mandatory (40 CFR part 60, subpart Da).

Estimated number of respondents: 743.

Frequency of response: Initially, quarterly, and semiannually.

Estimated annual burden: 177,000 hours.

Estimated annual cost: $31,900,000, includes $13,300,000 annualized capital or O&M costs.

Changes in estimates: There is a projected increase in burden due to an increase in the number of sources subject to the regulation.

(7) Docket ID Number: EPA-HQ-OECA-2013-0332; NSPS for Small Industrial-Commercial-Institutional Steam Generating Units (40 CFR part 60, subpart Dc) (Renewal); EPA ICR Number 1564.11; OMB Control Number 2060-0202; Expiration date February 28, 2021.

Respondents: Industrial-commercial-institutional steam generating units with maximum design heat input capacity of 29 megawatts (MW) or less, but greater than or equal to 2.9 MW.

Respondent's obligation to respond: Mandatory (40 CFR part 60, subpart Dc).

Estimated number of respondents: 290.

Frequency of response: Initially and semiannually.

Estimated annual burden: 205,000 hours.

Estimated annual cost: $33,300,000, includes $11,800,000 annualized capital or O&M costs.

Changes in estimates: There is a projected increase in burden due to an increase in the number of sources subject to the regulation.

(8) Docket ID Number: EPA-HQ-OECA-2013-0351; NESHAP for Solvent Extraction for Vegetable Oil Production (40 CFR part 63, subpart GGGG) (Renewal); EPA ICR Number 1947.10; OMB Control Number 2060-0471; Expiration date February 28, 2021.

Respondents: Facilities with a vegetable oil production process.

Respondent's obligation to respond: Mandatory (40 CFR part 63, subpart GGGG).

Estimated number of respondents: 89.

Frequency of response: Initially, occasionally, and semiannually.

Estimated annual burden: 33,400 hours.

Estimated annual cost: $3,510,000, includes $0 annualized capital or O&M costs.

Changes in estimates: There is a projected increase in burden due to an increase in the number of sources subject to the regulation.

(9) Docket ID Number: EPA-HQ-OECA-2013-0326; NSPS for Asphalt Processing and Roofing Manufacturing (40 CFR part 60, subpart UU) (Renewal); EPA ICR Number 0661.13; OMB Control Number 2060-0002; Expiration date February 28, 2021.

Respondents: Asphalt processing and roofing manufacturing facilities.

Respondent's obligation to respond: Mandatory (40 CFR part 60, subpart UU).

Estimated number of respondents: 144.

Frequency of response: Initially, occasionally, and semiannually.

Estimated annual burden: 34,100 hours.

Estimated annual cost: $8,820,000, includes $5,240,000 annualized capital or O&M costs.

Changes in estimates: There is no change in burden from the previous ICR.

(10) Docket ID Number: EPA-HQ-OECA-2020-0204; Emission Guidelines for Municipal Solid Waste Landfills (40 CFR part 60, subpart Cf) (Renewal); EPA ICR Number 2522.03; OMB Control Number 2060-0720; Expiration date February 28, 2021.

Respondents: Municipal solid waste (MSW) landfills that accepted waste since November 8, 1987 and commenced construction, reconstruction, or modification on or before July 17, 2014.

Respondent's obligation to respond: Mandatory (40 CFR part 60, subpart Cf).

Estimated number of respondents: 1,192.

Frequency of response: Initially, occasionally, and semiannually.

Estimated annual burden: 679,668 hours.

Estimated annual cost: $41,800,000 includes $4,000,000 annualized capital or O&M costs.

Changes in estimates: There is no change in burden from the previous ICR.

(11) Docket ID Number: EPA-HQ-OECA-2013-0347; NESHAP for Epoxy Resin and Non-Nylon Polyamide Production (40 CFR part 63, subpart W) (Renewal); EPA ICR Number 1681.10; OMB Control Number 2060-0290; Expiration date April 30, 2021.

Respondents: Epoxy resin and non-nylon polyamide resin production facilities.

Respondent's obligation to respond: Mandatory (40 CFR part 63, subpart W).

Estimated number of respondents: 7.

Frequency of response: Initially, occasionally, quarterly, and semiannually.

Estimated annual burden: 3,940 hours.

Estimated annual cost: $424,000, includes $9,000 annualized capital or O&M costs.

Changes in estimates: There is no change in burden from the previous ICR.

(12) Docket ID Number: EPA-HQ-OECA-2014-0080; NESHAP for Cellulose Products Manufacturing (40 CFR part 63, subpart UUUU) (Renewal); EPA ICR Number 1974.09; OMB Control Number 2060-0488; Expiration date April 30, 2021.

Respondents: Cellulose products manufacturing facilities.

Respondent's obligation to respond: Mandatory (40 CFR part 63, subpart UUUU).

Estimated number of respondents: 13.

Frequency of response: Initially and semiannually.

Estimated annual burden: 12,200 hours.

Estimated annual cost: $1,280,000, includes $1,010 annualized capital or O&M costs.

Changes in estimates: There is no change in burden from the previous ICR.

(13) Docket ID Number: EPA-HQ-OECA-2013-0324; NESHAP for Marine Tank Vessel Loading Operations (40 CFR part 63, subpart Y) (Renewal); EPA ICR Number 1679.11; OMB Control Number 2060-0289; Expiration date May 31, 2021.

Respondents: Marine tank vessels loading operations.

Respondent's obligation to respond: Mandatory (40 CFR part 63, subpart Y).

Estimated number of respondents: 804.

Frequency of response: Initially, annually, and semiannually.

Estimated annual burden: 10,702 hours.

Estimated annual cost: $1,130,000, includes $0 annualized capital or O&M costs.

Changes in estimates: There is no change in burden from the previous ICR.

(14) Docket ID Number: EPA-HQ-OECA-2014-0056; NESHAP for Shipbuilding and Ship Repair Facilities—Surface Coating (40 CFR part 63, subpart II) (Renewal); EPA ICR Number 1712.11; OMB Control Number 2060-0330; Expiration date May 31, 2021.

Respondents: Shipbuilding and ship repair facilities.

Respondent's obligation to respond: Mandatory (40 CFR part 63, subpart II).

Estimated number of respondents: 56.

Frequency of response: Semiannually.

Estimated annual burden: 28,700 hours.

Estimated annual cost: $3,010,000, includes $0 annualized capital or O&M costs.

Changes in estimates: There is no change in burden from the previous ICR.

(15) Docket ID Number: EPA-HQ-OECA-2014-0028; NSPS for Calciners and Dryers in Mineral Industries (40 CFR part 60, subpart UUU) (Renewal); EPA ICR Number 0746.11; OMB Control Number 2060-0251; Expiration date May 31, 2021.

Respondents: Mineral processing plants with calciners or dryers.

Respondent's obligation to respond: Mandatory (40 CFR part 60, subpart UUU).

Estimated number of respondents: 167.

Frequency of response: Initially, occasionally, and semiannually.

Estimated annual burden: 6,630 hours.

Estimated annual cost: $805,000, includes $109,000 annualized capital or O&M costs

Changes in estimates: There is no change in burden from the previous ICR.

(16) Docket ID Number: EPA-HQ-OECA-2013-0322; NESHAP for Beryllium Rocket Motor Firing (40 CFR part 61, subpart D) (Renewal); EPA ICR Number 1125.09; OMB Control Number 2060-0394; Expiration date July 31, 2021.

Respondents: Beryllium rocket motor fuel firing facilities.

Respondent's obligation to respond: Mandatory (40 CFR part 61, subpart D).

Estimated number of respondents: 1.

Frequency of response: Initially and occasionally.

Estimated annual burden: 9 hours.

Estimated annual cost: $997, includes $0 annualized capital or O&M costs.

Changes in estimates: There is no change in burden from the previous ICR.

(17) Docket ID Number: EPA-HQ-OECA-2011-0234; NESHAP for Petroleum Refineries (40 CFR part 63, subpart CC) (Renewal); EPA ICR Number 1692.11; OMB Control Number 2060-0340; Expiration date July 31, 2021.

Respondents: Petroleum refining process units and emission points located at refineries that are major sources of HAP emissions.

Respondent's obligation to respond: Mandatory (40 CFR part 63, subpart CC)

Estimated number of respondents: 142.

Frequency of response: Quarterly and semiannually.

Estimated annual burden: 99,722 hours.

Estimated annual cost: $47,200,000, includes $38,900,000 annualized capital or O&M costs.

Changes in estimates: There is a projected decrease in burden due to reduced capital costs following implementation of prior rule amendments.

(18) Docket ID Number: EPA-HQ-OECA-2013-0349; NESHAP for Pharmaceutical Production (40 CFR part 63, subpart GGG) (Renewal); EPA ICR Number 1781.09; OMB Control Number 2060-0358; Expiration date July 31, 2021.

Respondents: Pharmaceuticals manufacturing operations.

Respondent's obligation to respond: Mandatory (40 CFR part 63, subpart GGG).

Estimated number of respondents: 27.

Frequency of response: Semiannually.

Estimated annual burden: 44,300 hours.

Estimated annual cost: $4,760,000, includes $112,000 annualized capital or O&M costs.

Changes in estimates: There is no change in burden from the previous ICR.

(19) Docket ID Number: EPA-HQ-OECA-2013-0327; NSPS for Portland Cement Plants (40 CFR part 60, subpart F) (Renewal); EPA ICR Number 1051.15; OMB Control Number 2060-0025; Expiration date August 31, 2021.

Respondents: Portland cement plants.

Respondent's obligation to respond: Mandatory (40 CFR part 60, subpart F).

Estimated number of respondents: 95.

Frequency of response: Initially and semiannually.

Estimated annual burden: 14,500 hours.

Estimated annual cost: $2,290,000, includes $767,000 annualized capital or O&M costs.

Changes in estimates: There is a projected decrease in burden due to anticipated shutdown of existing sources.

(20) Docket ID Number: EPA-HQ-OECA-2014-0041; NSPS for Glass Manufacturing Plants (40 CFR part 60, subpart CC) (Renewal); EPA ICR Number 1131.13; OMB Control Number 2060-0054; Expiration date August 31, 2021.

Respondents: Glass manufacturing facilities.

Respondent's obligation to respond: Mandatory (40 CFR part 60, subpart CC).

Estimated number of respondents: 41.

Frequency of response: Initially and semiannually.

Estimated annual burden: 850 hours.

Estimated annual cost: $327,000, includes $238,000 annualized capital or O&M costs.

Changes in estimates: There is no change in burden from the previous ICR.

(21) Docket ID Number: EPA-HQ-OECA-2013-0348; NESHAP for Primary Aluminum Reduction Plants (40 CFR part 63, subpart LL) (Renewal); EPA ICR Number 1767.09; OMB Control Number 2060-0360; Expiration date August 31, 2021.

Respondents: Primary aluminum reduction plants.

Respondent's obligation to respond: Mandatory (40 CFR part 63, subpart LL).

Estimated number of respondents: 16.

Frequency of response: Initially and semiannually.

Estimated annual burden: 71,900 hours.

Estimated annual cost: $7,920,000, includes $91,300 annualized capital or O&M costs.

Changes in estimates: There is no change in burden from the previous ICR.

(22) Docket ID Number: EPA-HQ-OECA-2013-0323; NESHAP for Area Sources: Electric Arc Furnace Steelmaking Facilities (40 CFR part 63, subpart YYYYY) (Renewal); EPA ICR Number 2277.06; OMB Control Number 2060-0608; Expiration date August 31, 2021.

Respondents: Electric Arc Furnace (EAF) Steelmaking facilities that are area sources of HAP emissions.

Respondent's obligation to respond: Mandatory (40 CFR part 63, subpart YYYYY).

Estimated number of respondents: 91.

Frequency of response: Initially, occasionally, and semiannually.

Estimated annual burden: 4,450 hours.

Estimated annual cost: $467,000, includes $0 annualized capital or O&M costs.

Changes in estimates: There is no change in burden from the previous ICR.

(23) Docket ID Number: EPA-HQ-OECA-2014-0027; NSPS for Bulk Gasoline Terminals (40 CFR part 60, subpart XX) (Renewal); EPA ICR Number 0664.13; OMB Control Number 2060-0006; Expiration date September 30, 2021.

Respondents: Bulk gasoline terminal facilities.

Respondent's obligation to respond: Mandatory (40 CFR part 60, subpart XX).

Estimated number of respondents: 40.

Frequency of response: Initially.

Estimated annual burden: 13,200 hours.

Estimated annual cost: $1,390,000, includes $0 annualized capital or O&M costs.

Changes in estimates: There is no change in burden from the previous ICR.

(24) Docket ID Number: EPA-HQ-OECA-2014-0099; NESHAP for Ferroalloys Production Area Sources (40 CFR part 63, subpart YYYYYY) (Renewal); EPA ICR Number 2303.06; OMB Control Number 2060-0625; Expiration date September 30, 2021.

Respondents: Ferroalloys production facilities that are area sources of HAP emissions.

Respondent's obligation to respond: Mandatory (40 CFR part 63, subpart YYYYYY).

Estimated number of respondents: 10.

Frequency of response: Initially and annually.

Estimated annual burden: 391 hours.

Estimated annual cost: $41,100, includes $0 annualized capital or O&M costs.

Changes in estimates: There is no change in burden from the previous ICR.

Martha Segall,
Acting Director, Monitoring, Assistance and Media Programs Division, Office of Compliance.

[FR Doc. 2020-10097 Filed 5-11-20; 8:45 am]

BILLING CODE 6560-50-P